NATIONAL AERONAUTICS AND SPACE ADMINISTRATION

[Notice (06-013)]

Government-Owned Inventions, Available for Licensing

AGENCY: National Aeronautics and Space Administration.

ACTION: Notice of availability of inventions for licensing.

SUMMARY: The invention listed below is assigned to the National Aeronautics and Space Administration, is the subject of a patent application that has been filed in the United States Patent and Trademark office, and is available for licensing.

DATES: March 2, 2006.

FOR FURTHER INFORMATION CONTACT: Mark Homer, Patent Counsel, NASA Management Office—JPL, 4800 Oak Grove Drive, Mail Stop 180-200, Pasadena, CA 91109; telephone (818) 354-7770.

NASA Case No. DRC-005-031: Sound Shield;

NASA Case No. NPO-40752: Improved Solar Cell Circuit and Method for Manufacturing Solar Cells.

Dated: February 24, 2006.
Keith T. Sefton,
Deputy General Counsel, Administration and Management.

[FR Doc. E6-2996 Filed 3-1-06; 8:45 am]

BILLING CODE 7510-13-P